DEPARTMENT OF LABOR

Office of the Secretary

Submission for OMB review; comment request

April 26, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ({202} 219-5096 ext. 159 or by E-mail to Kurz-Karin@dol.gov). To obtain documentation for ESA, MSHA, OSHA, and VETS contact Darrin King ({202} 219-5096 ext. 151 or by E-Mail to King-Darrin@dol.gov).

Comments should be sent to Office of Information and Regulatory Affairs, Attn: OMB Desk Officer for BLS, DM, ESA, ETA, MSHA, OSHA, PWBA, or VETS, Office of Management and Budget, room 10235, Washington, DC 20503 ({202} 395-7316), on or before June 1, 2000.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Type of Review: New collection.

Agency: Employment and Training Administration.

Title: Employers' Use and Assessment of the WOTC and Welfare-to-Work Tax Credit Programs.

OMB Number: 1205-ONew.

Affected Public: Business or other for-profit.

Frequency: One-time only.

Number of Respondents: 16.

Total Annual Responses: 16.

Estimated Time Per respondent: 4 Hours.

Total Annual Burden: 64 Hours.

Total annualized capital/startup costs: $0.

Total annual costs (operating/maintaining systems or purchasing services): $0.

Description: This study will provide in-depth information on how employers use the Work Opportunity Tax Credit and Welfare-to-Work Tax Credit Programs; their experiences with job applicants and newly hired individuals who represent the programs' target groups; the extent to which they maintain data related to the tax credit provisions; their assessment of the efficiency of implementation; and their recommendations for improving the programs.

Ira L. Mills,
Departmental Clearance Officer.

[FR Doc. 00-10898 Filed 5-1-00; 8:45 am]

BILLING CODE 4510-30-M